DEPARTMENT OF AGRICULTURE

Forest Service

Nez Perce-Clearwater National Forests; Idaho; Nez Perce-Clearwater National Forests Travel Planning Project

AGENCY: Forest Service, USDA.

ACTION: Notice of Intent (NOI) to Prepare a Supplemental Environmental Impact Statement (SEIS) for the Nez Perce-Clearwater National Forests Travel Planning Project.

SUMMARY: The Forest Service is giving notice of its intent to prepare a SEIS for the Nez Perce-Clearwater National Forests Travel Planning project on the Nez Perce-Clearwater National Forests, Idaho. A complaint was filed on December 5, 2013 against the January 2012 Clearwater National Forest Travel Planning Record of Decision (ROD). On March 11, 2015 the United States District Court for the State of Idaho issued a Memorandum Decision and Order remanding the Travel Plan, Final Environmental Impact Statement (FEIS), and Record of Decision for reconsideration and further evaluation. This SEIS will provide additional analysis in response to the Memorandum Decision and Order.

FOR FURTHER INFORMATION CONTACT: Lois Hill, Environmental Coordinator, (208) 935-4258.

SUPPLEMENTARY INFORMATION: The Forest Service is announcing its intent to prepare a SEIS for the Nez Perce-Clearwater National Forests Travel Planning project. The SEIS will supplement the analysis from the Clearwater National Forest Travel Planning FEIS (2011) by providing an updated analysis of the environmental effects. The Clearwater Travel Planning FEIS evaluated the potential effects of five alternatives, including No Action and four action alternatives.

The Nez Perce-Clearwater Forest Supervisor will issue a new ROD after evaluating the SEIS and public comments. An objection period for the new ROD will be provided, consistent with 36 CFR part 218.

Authority: This NOI is being published pursuant to regulations (40 CFR 1508.22) implementing the procedural provisions of the National Environmental Policy Act (NEPA) of 1969, as amended (42 U.S.C. 4321 et seq.).

Scoping: A NOI published on November 28, 2007 initiated the scoping period for the Clearwater National Forest Travel Planning project. A legal notice advertising the start of a 30-day scoping period was advertised in the Lewiston, Idaho Lewiston Tribune on November 13, 2007. The scoping period was later extended to February 29, 2008. In accordance with 40 CFR 1502.9(c)(4), there will be no scoping conducted for this SEIS. The scope of the Final Nez Perce-Clearwater National Forests Travel Planning EIS established the scope for this SEIS.

The SEIS will be advertised for public comment as required by 40 CFR 1503.1. The Draft SEIS will be announced for public review and comment in the Federal Register, on the Nez Perce-Clearwater National Forests' project Web site, and in the Lewiston, Idaho Lewiston Tribune, as well as other local media.

Responsible Official and Lead Agency

The USDA Forest Service is the lead agency for this proposal. The Nez Perce-Clearwater Forest Supervisor is the responsible official.

Decision to Be Made is whether to adopt the proposed action, in whole or in part, or another alternative; and what mitigation measures and management requirements will be implemented.

Dated: September 27, 2016.
Cheryl F. Probert,
Forest Supervisor.

[FR Doc. 2016-24047 Filed 10-4-16; 8:45 am]

BILLING CODE 3411-15-P